DEPARTMENT OF DEFENSE

GENERAL SERVICES ADMINISTRATION

NATIONAL AERONAUTICS AND SPACE ADMINISTRATION

48 CFR Part 4

[FAC 2001-16; FAR Case 2002-025; Item III]

RIN 9000-AJ70

Federal Acquisition Regulation; Unique Contract and Order Identifier Numbers

AGENCIES: Department of Defense (DoD), General Services Administration (GSA), and National Aeronautics and Space Administration (NASA).

ACTION: Interim rule with request for comments.

SUMMARY: The Civilian Agency Acquisition Council and the Defense Acquisition Regulations Council (Councils) have agreed to issue an interim rule amending the Federal Acquisition Regulation (FAR) to require that Federal agencies assign a unique identifier for every contract, purchase order, BOA, Basic Agreement, and BPA reported to the Federal Procurement Data System (FPDS). Agencies must be in compliance with this requirement no later than October 1, 2003, when the next generation of FPDS, “FPDS-NG,” becomes operational.

DATES: Effective Date: October 1, 2003.

Comment Date: Interested parties should submit comments to the FAR Secretariat at the address shown below on or before October 31, 2003, to be considered in the formulation of a final rule.

ADDRESSES: Submit written comments to—General Services Administration, FAR Secretariat (MVA), 1800 F Street, NW., Room 4035, Attn: Ms. Laurie Duarte, Washington, DC 20405.

Submit electronic comments via the Internet to—farcase.2002-025@gsa.gov.

Please submit comments only and cite FAC 2001-16, FAR case 2002-025, in all correspondence related to this case.

FOR FURTHER INFORMATION CONTACT: The FAR Secretariat, Room 4035, GS Building, Washington, DC 20405, (202) 501-4755, for information pertaining to status or publication schedules. For clarification of content, contact Mr. Gerald Zaffos, Procurement Analyst, at (202) 208-6091. Please cite FAC 2001-16, FAR case 2002-025.

SUPPLEMENTARY INFORMATION:

A. Background

The Federal Government is modernizing its procurement data collection system, the Federal Procurement Data System (FPDS). As part of this modernization process, agencies are being asked to establish and use a unique contract and order identification number scheme for the information reported to FPDS. These unique identifiers will help to improve the quality of information FPDS makes available to agencies for managing their programs and to the public for better understanding how taxpayer funds are spent.

Therefore, the FAR is being amended at 4.602 to add a paragraph requiring that each agency that reports to the FPDS have in place no later than October 1, 2003, a process that will ensure that each procurement instrument identifier reported to FPDS is unique, Governmentwide, and will remain so for at least 20 years from the date of contract award; and to require that agencies submit their proposed identifier to the Federal Procurement Data Center, which will maintain a registry of identifiers and validate their use in all transactions.

The agency's identifier must comply with the contract numbering guidelines established by the Joint Financial Management Improvement Project (JFMIP). Delivery orders, task orders, and call numbers must be unique in combination with the basic reference contract vehicle identifier. When the basic reference contract is available for multi-agency use, an ordering agency must use the same agency identification prefix for its delivery orders, task orders, and call numbers as it uses for its contractual instruments. Agencies may submit their proposed identifier to john.cochran@gsa.gov. Agencies are encouraged to submit their proposed identifier as soon as possible. If an agency is not in compliance by October 1, 2003 (i.e., the date FPDS-NG becomes operational), FPDS-NG will reject the agency's reports.

This is not a significant regulatory action and, therefore, was not subject to review under section 6(b) of Executive Order 12866, Regulatory Planning and Review, dated September 30, 1993. This rule is not a major rule under 5 U.S.C. 804.

B. Regulatory Flexibility Act

The Regulatory Flexibility Act, 5 U.S.C. 601, et seq., does not apply because the rule applies to the internal process of Federal agencies. An Initial Regulatory Flexibility Analysis has, therefore, not been prepared.

C. Paperwork Reduction Act

The Paperwork Reduction Act does not apply because the changes to the FAR do not impose information collection requirements that require the approval of the Office of Management and Budget under 44 U.S.C. 3501, et seq.

D. Determination To Issue an Interim Rule

There is no requirement to publish this rule for public comment, as it is not a significant FAR revision. This rule simply requires that agencies assign a unique identifier for contracts, purchase orders, and agreements reported to the FPDS. Even though not required to do so, the Councils would, nevertheless, like to obtain public comments and are issuing this rule as an interim rule with request for comments. Pursuant to Public Law 8-577 and FAR 1.501, the Councils will consider public comments received in response to this interim rule in the formation of the final rule.

List of Subjects in 48 CFR Part 4

Government procurement.

Dated: September 24, 2003.
Laura G. Auletta,
Director, Acquisition Policy Division.

Therefore, DoD, GSA, and NASA amend 48 CFR part 4 as set forth below:

PART 4—ADMINISTRATIVE MATTERS

1. The authority citation for 48 CFR part 4 is revised to read as follows:

Authority: 40 U.S.C. 121(c); 10 U.S.C. chapter 137; and 42 U.S.C. 2473(c).

2. Amend section 4.602 by adding paragraph (e) to read as follows:

4.602 Federal Procurement Data System.

* * * * *

(e) Unique Procurement Instrument Identifier (PIID). (1) The FPDS requires that each reporting agency assign a unique identifier for every contract, purchase order, BOA, Basic Agreement, and BPA reported to FPDS. Such identifiers shall comply with the contract numbering guidelines established by the Joint Financial Management Improvement Project. The PIID shall consist of alpha characters in the first positions to indicate the agency, followed by alphanumeric characters identifying bureau, offices, or other administrative subdivisions. The last portion of the PIID shall be numbered sequentially. The PIID may include other elements, as appropriate, such as fiscal year. Delivery orders, task orders, and call numbers must be unique in combination with the basic reference contract vehicle identifier. When the basic reference contract is available for multi-agency use (GWAC, Federal Supply Schedule contract, etc.), an ordering agency shall use the same agency identification prefix for its delivery orders, task orders, and call numbers as it uses for its contractual instruments.

(2) Agencies are required to have in place, no later than October 1, 2003, a process that will ensure that each PIID reported to FPDS is unique, Governmentwide, and will remain so for at least 20 years from the date of contract award. To eliminate the possibility of duplication between agencies, agencies must submit their proposed identifier to the Federal Procurement Data Center, which will maintain a registry of the identifiers on the FPDC website and validate their use in all transactions.

[FR Doc. 03-24584 Filed 9-30-03; 8:45 am]

BILLING CODE 6820-EP-P